NATIONAL AERONAUTICS AND SPACE ADMINISTRATION

[Notice (07-001)]

Notice of Intent to Grant Exclusive License

AGENCY: National Aeronautics and Space Administration.

ACTION: Notice of Intent to grant exclusive license.

SUMMARY: This notice is issued in accordance with 35 U.S.C. 209(c)(1) and 37 CFR 404.7(a)(1)(i). NASA hereby gives notice of its intent to grant an exclusive license in the United States to practice the inventions described and claimed in U.S. Patent Nos. 6,164,060 B1 entitled Combustion Chamber/Nozzle Assembly and Fabrication Process Therefrom, 6,308,408 B1 entitled Combustion Chamber/Nozzle Assembly and Fabrication Process Therefrom, 6,195,984 B1 entitled Rocket Engine Thrust Chamber Assembly, 6,330,792 B1 entitled Method of Making a Rocket Engine Thrust Chamber Assembly, 6,116,020 B1 entitled Injector for Liquid Fueled Rocket Engine, 6,189,315 B1 entitled Low-Cost Gas Generator and Ignitor, 6,497,091 B1 entitled Hypergolic Ignitor Assembly, 6,845,605 B1 entitled Hypergolic Ignitor and 6,860,099 B1 entitled Liquid Propellant Tracing Impingement Injector to Spacelines, LLC, having its principal place of business in Rocklin, California. The patent rights in these inventions have been assigned to the United States of America as represented by the Administrator of the National Aeronautics and Space Administration. The prospective exclusive license will comply with the terms and conditions of 35 U.S.C. 209 and 37 CFR 404.7.

DATES: The prospective exclusive license may be granted unless, within fifteen (15) days from the date of this published notice, NASA receives written objections including evidence and argument that establish that the grant of the license would not be consistent with the requirements of 35 U.S.C. 209 and 37 CFR 404.7. Competing applications completed and received by NASA within fifteen (15) days of the date of this published notice will also be treated as objections to the grant of the contemplated exclusive license.

Objections submitted in response to this notice will not be made available to the public for inspection and, to the extent permitted by law, will not be released under the Freedom of Information Act, 5 U.S.C. 552.

ADDRESSES: Objections relating to the prospective license may be submitted to Mr. James J. McGroary, Chief Patent Counsel/LS01, Marshall Space Flight Center, Huntsville, AL 35812, (256) 544-0013.

FOR FURTHER INFORMATION CONTACT: Sammy A. Nabors, Technology Transfer Program Office/ED03, Marshall Space Flight Center, Huntsville, AL 35812, (256) 544-5226. Information about other NASA inventions available for licensing can be found online at http://www.nasasolutions.com/.

Dated: January 9, 2007.
Keith T. Sefton,
Deputy General Counsel, Administration and Management.

[FR Doc. E7-477 Filed 1-16-07; 8:45 am]

BILLING CODE 7510-13-P